Title 3—

The President

Proclamation 8838 of June 14, 2012

World Elder Abuse Awareness Day, 2012

By the President of the United States of America

A Proclamation

Every American deserves the chance to live out the full measure of their days in health and security. Yet, every year, millions of older Americans are denied that most basic opportunity due to abuse, neglect, or exploitation. On World Elder Abuse Awareness Day, we call attention to this global public health issue, and we rededicate ourselves to providing our elders the care and protection they deserve.

Victims of elder abuse are parents and grandparents, neighbors and friends. Elder abuse cuts across race, gender, culture, and circumstance, and whether physical, emotional, or financial, it takes an unacceptable toll on individuals and families across our Nation. Seniors who experience abuse or neglect face a heightened risk of health complications and premature death, while financial exploitation can rob men and women of the security they have built over a lifetime. Tragically, many older Americans suffer in silence, burdened by fear, shame, or impairments that prevent them from speaking out about abuse.

We owe it to our seniors to expose elder abuse wherever we find it and take action to bring it to an end. Two years ago, I was proud to sign the Elder Justice Act, which was included in the Affordable Care Act, and marked a major step forward in the fight against elder abuse, neglect, and exploitation. With the Department of Health and Human Services, we are partnering with State and local authorities to ensure seniors can live their lives with dignity and independence. With the Consumer Financial Protection Bureau, we are working to empower older Americans with tools and information to navigate safely through financial challenges. And with the Department of Justice, we are protecting older Americans by prosecuting those who would target and exploit them.

Every day, State and local agencies, protective services professionals, law enforcement officers, private and non-profit organizations, and leaders throughout our communities help protect older Americans from abuse and provide care to those who have already been affected. Together, all of us can play a role in addressing this public health crisis that puts millions at risk. Today, let us keep faith with a generation of Americans by speaking out against elder abuse, advancing justice for victims, and building a Nation that preserves and protects the well-being of all who call it home.

NOW, THEREFORE, I, BARACK OBAMA, President of the United States of America, by virtue of the authority vested in me by the Constitution and the laws of the United States, do hereby proclaim June 15, 2012, as World Elder Abuse Awareness Day. I call upon all Americans to observe this day by learning the signs of elder abuse, neglect, and exploitation, and by raising awareness about this public health issue.

IN WITNESS WHEREOF, I have hereunto set my hand this fourteenth day of June, in the year of our Lord two thousand twelve, and of the Independence of the United States of America the two hundred and thirty-sixth.

[FR Doc. 2012-15170

Filed 6-19-12; 8:45 am]

Billing code 3295-F2-P